DEPARTMENT OF STATE

[Public Notice: 10602]

Updating the State Department's List of Entities and Subentities Associated With Cuba (Cuba Restricted List)

ACTION: Updated publication of list of entities and subentities.

SUMMARY: The Department of State is publishing an update to its List of Restricted Entities and Subentities Associated with Cuba (Cuba Restricted List) with which direct financial transactions are generally prohibited under the Cuban Assets Control Regulations (CACR). This Cuba Restricted List is also considered during review of license applications submitted to the Department of Commerce's Bureau of Industry and Security (BIS) pursuant to the Export Administration Regulations (EAR).

DATES: The updates to the Cuba Restricted List are effective on November 15, 2018.

FOR FURTHER INFORMATION CONTACT: Benjamin Barron, Office of Economic Sanctions Policy and Implementation, tel.: 202-647-7489; Office of the Coordinator for Cuban Affairs, tel.: 202-453-8456, Department of State, Washington, DC 20520.

SUPPLEMENTARY INFORMATION:

Background

On June 16, 2017, the President signed the National Security Presidential Memorandum on Strengthening the Policy of the United States Toward Cuba (NSPM). As directed by the NSPM, on November 9, 2017, the Department of the Treasury's Office of Foreign Assets Control (OFAC) published a final rule in the Federal Register amending the CACR, 31 CFR part 515, and the Department of Commerce's Bureau of Industry and Security (BIS) published a final rule in the Federal Register amending, among other sections, the section of the Export Administration Regulations (EAR) regarding Cuba, 15 CFR part 746. The regulatory amendment to the CACR added § 515.209, which generally prohibits direct financial transactions with certain entities and subentities identified on the State Department's Cuba Restricted List, which the State Department is updating as published below, and accessible on the State Department's website. The regulatory amendment to the EAR, specifically § 746.2, notes BIS will generally deny applications to export or reexport items for use by entities or subentities identified on the Cuba Restricted List. (http://www.state.gov/e/eb/tfs/spi/cuba/cubarestrictedlist/index.htm). This update includes 26 newly identified subentities and five amendments to previously-listed subentities including three name-changes, one new alias, and one typographical correction (the subentity “Hotel Palacio del Marqués de San Felipe y Santiago de Bejucal (Habaguanex)” was incorrectly split between two lines). The State Department will continue to update the Cuba Restricted List periodically.

The publication of the updated Cuba Restricted List further implements the directive in paragraph 3(a)(i) of the NSPM for the Secretary of State to identify the entities or subentities, as appropriate, that are under the control of, or act for or on behalf of, the Cuban military, intelligence, or security services or personnel, and publish a list of those identified entities and subentities with which direct financial transactions would disproportionately benefit such services or personnel at the expense of the Cuban people or private enterprise in Cuba.

Electronic Availability

This document and additional information concerning the Cuba Restricted List are available from the Department of State's website (http://www.state.gov/e/eb/tfs/spi/cuba/).

List of Restricted Entities and Subentities Associated With Cuba as of November 15, 2018

Below is the U.S. Department of State's list of entities and subentities under the control of, or acting for or on behalf of, the Cuban military, intelligence, or security services or personnel with which direct financial transactions would disproportionately benefit such services or personnel at the expense of the Cuban people or private enterprise in Cuba. For information regarding the prohibition on direct financial transactions with these entities, please see section 515.209 of the Cuban Assets Control Regulations (31 CFR part 515). All entities and subentities were listed effective November 9, 2017, unless otherwise indicated.

* * * Entities or subentities owned or controlled by another entity or subentity on this list are not treated as restricted unless also specified by name on the list. * * *

Ministries

MINFAR—Ministerio de las Fuerzas Armadas Revolucionarias

MININT—Ministerio del Interior

Holding Companies

CIMEX—Corporación CIMEX S.A.

Compañía Turística Habaguanex S.A.

GAESA—Grupo de Administración Empresarial S.A.

Gaviota—Grupo de Turismo Gaviota

UIM—Unión de Industria Militar

Hotels in Havana and Old Havana

Aparthotel Montehabana (Habaguanex)

Gran Hotel Manzana Kempinski (Gaviota)

H10 Habana Panorama (Gaviota)

Hostal Valencia (Habaguanex)

Hotel Ambos Mundos (Habaguanex)

Hotel Armadores de Santander (Habaguanex)

Hotel Beltrán de Santa Cruz (Habaguanex)

Hotel Conde de Villanueva (Habaguanex)

Hotel del Tejadillo (Habaguanex)

Hotel el Bosque (Habaguanex)

Hotel el Comendador (Habaguanex)

Hotel el Mesón de la Flota (Habaguanex)

Hotel Florida (Habaguanex)

Hotel Habana 612 (Habaguanex)

Hotel Kohly (Habaguanex)

Hotel Los Frailes (Habaguanex)

Hotel Marqués de Prado Ameno (Habaguanex)

Hotel Palacio del Marqués de San Felipe y Santiago de Bejucal (Habaguanex)

Hotel Palacio O'Farrill (Habaguanex)

Hotel Park View (Habaguanex)

Hotel Raquel (Habaguanex)

Hotel San Miguel (Habaguanex)

Hotel Telégrafo (Habaguanex)

Hotel Terral (Habaguanex)

Iberostar Grand Packard Hotel (Gaviota) Effective November 15, 2018

Memories Miramar Havana (Gaviota)

Memories Miramar Montehabana (Gaviota)

SO/Havana Paseo del Prado (Gaviota) Effective November 15, 2018

Hotels in Santiago de Cuba

Villa Gaviota Santiago (Gaviota)

Hotels in Varadero

Blau Marina Varadero Resort (Gaviota) (also Fiesta Americana Punta Varadero Effective November 15,2018 )

Grand Memories Varadero (Gaviota)

Hotel Las Nubes (Gaviota) Effective November 15, 2018

Hotel Oasis (Gaviota) Effective November 15, 2018

Iberostar Bella Vista (Gaviota) Effective November 15, 2018

Iberostar Laguna Azul (Gaviota)

Iberostar Playa Alameda (Gaviota)

Meliá Marina Varadero (Gaviota)

Meliá Peninsula Varadero (Gaviota)

Memories Varadero (Gaviota)

Naviti Varadero (Gaviota)

Ocean Varadero El Patriarca (Gaviota)

Ocean Vista Azul (Gaviota)

Paradisus Princesa del Mar (Gaviota)

Paradisus Varadero (Gaviota)

Sol Sirenas Coral (Gaviota)

Hotels in Pinar del Rio

Hotel Villa Cabo de San Antonio (Gaviota)

Hotel Villa Maria La Gorda y Centro Internacional de Buceo (Gaviota)

Hotels in Baracoa

Hostal 1511 (Gaviota)

Hostal La Habanera (Gaviota)

Hostal La Rusa (Gaviota)

Hostal Rio Miel (Gaviota)

Hotel El Castillo (Gaviota)

Hotel Porto Santo (Gaviota)

Villa Maguana (Gaviota)

Hotels in Cayos de Villa Clara

Angsana Cayo Santa María (Gaviota) Effective November 15, 2018

Dhawa Cayo Santa María (Gaviota)

Golden Tulip Aguas Claras (Gaviota) Effective November 15, 2018

Hotel Cayo Santa María (Gaviota)

Hotel Playa Cayo Santa María (Gaviota)

Iberostar Ensenachos (Gaviota)

Las Salinas Plana & Spa (Gaviota) Effective November 15, 2018

La Salina Noreste (Gaviota) Effective November 15, 2018

La Salina Suroeste (Gaviota) Effective November 15, 2018

Meliá Buenavista (Gaviota)

Meliá Cayo Santa María (Gaviota)

Meliá Las Dunas (Gaviota)

Memories Azul (Gaviota)

Memories Flamenco (Gaviota)

Memories Paraíso (Gaviota)

Ocean Casa del Mar (Gaviota)

Paradisus Los Cayos (Gaviota) Effective November 15, 2018

Royalton Cayo Santa María (Gaviota)

Sercotel Experience Cayo Santa María (Gaviota) Effective November 15, 2018

Sol Cayo Santa María (Gaviota)

Starfish Cayo Santa María (Gaviota) Effective November 15, 2018

Valentín Perla Blanca (Gaviota) Effective November 15, 2018

Villa Las Brujas (Gaviota)

Warwick Cayo Santa María (Gaviota) (also Labranda Cayo Santa María Hotel Effective November 15, 2018)

Hotels in Holguín

Blau Costa Verde Beach & Resort (Gaviota) (also Fiesta Americana Holguín Costa Verde Effective November 15, 2018)

Hotel Playa Costa Verde (Gaviota)

Hotel Playa Pesquero (Gaviota)

Memories Holguín (Gaviota)

Paradisus Río de Oro Resort & Spa (Gaviota)

Playa Costa Verde (Gaviota)

Playa Pesquero Premium Service (Gaviota)

Sol Rio de Luna y Mares (Gaviota)

Villa Cayo Naranjo (Gaviota)

Villa Cayo Saetia (Gaviota)

Villa Pinares de Mayari (Gaviota)

Hotels in Jardines del Rey

Grand Muthu Cayo Guillermo (Gaviota) Effective November 15, 2018

Hotel Playa Coco Plus (Gaviota)

Iberostar Playa Pilar (Gaviota)

Meliá Jardines del Rey (Gaviota)

Memories Caribe (Gaviota)

Pestana Cayo Coco (Gaviota)

Hotels in Topes de Collantes

Hostal Los Helechos (Gaviota)

Kurhotel Escambray (Gaviota) Effective November 15, 2018

Los Helechos (Gaviota)

Villa Caburni (Gaviota)

Tourist Agencies

Crucero del Sol

Gaviota Tours

Marinas

Marina Gaviota Cabo de San Antonio (Pinar del Rio)

Marina Gaviota Cayo Coco (Jardines del Rey)

Marina Gaviota Las Brujas (Cayos de Villa Clara)

Marina Gaviota Puerto Vita (Holguín)

Marina Gaviota Varadero (Varadero)

Stores in Old Havana

Casa del Abanico (Habaguanex)

Colección Habana (Habaguanex)

Florería Jardín Wagner (Habaguanex)

Joyería Coral Negro (CIMEX)—Additional locations throughout Cuba

La Casa del Regalo (Habaguanex)

San Ignacio 415 (Habaguanex)

Soldadito de Plomo (Habaguanex)

Tienda El Navegante (Habaguanex)

Tienda Muñecos de Leyenda (Habaguanex)

Tienda Museo El Reloj Cuervo y Sobrinos (Habaguanex)

Entities Directly Serving the Defense and Security Sectors

ACERPROT—Agencia de Certificación y Consultoría de Seguridad y Protección (alias Empresa de Certificación de Sistemas de Seguridad y Protección Effective November 15, 2018)

AGROMIN—Grupo Empresarial Agropecuario del Ministerio del Interior

APCI—Agencia de Protección Contra Incendios

CAHOMA—Empresa Militar Industrial Comandante Ernesto Che Guevara

CASEG—Empresa Militar Industrial Transporte Occidente

CID NAV—Centro de Investigación y Desarrollo Naval

CIDAI—Centro de Investigación y Desarrollo de Armamento de Infantería

CIDAO—Centro de Investigación y Desarrollo del Armamento de Artillería e Instrumentos Ópticos y Ópticos Electrónicos

CORCEL—Empresa Militar Industrial Emilio Barcenas Pier

CUBAGRO—Empresa Comercializadora y Exportadora de Productos Agropecuarios y Agroindustriales

DATYS—Empresa Para El Desarrollo De Aplicaciones, Tecnologías Y Sistemas

DCM TRANS—Centro de Investigación y Desarrollo del Transporte

DEGOR—Empresa Militar Industrial Desembarco Del Granma

DSE—Departamento de Seguridad del Estado

EMIAT—Empresa Importadora Exportadora de Abastecimientos Técnicos

Empresa Militar Industrial Astilleros Astimar

Empresa Militar Industrial Astilleros Centro

Empresa Militar Industrial Yuri Gagarin

ETASE—Empresa de Transporte y Aseguramiento

Ferretería TRASVAL

GELCOM—Centro de Investigación y Desarrollo Grito de Baire

Impresos de Seguridad

MECATRONICS—Centro de Investigación y Desarrollo de Electrónica y Mecánica

NAZCA—Empresa Militar Industrial Granma

OIBS—Organización Integración para el Bienestar Social

PLAMEC—Empresa Militar Industrial Ignacio Agramonte

PNR—Policía Nacional Revolucionaria

PROVARI—Empresa de Producciones Varias

SEPSA—Servicios Especializados de Protección

SERTOD—Servicios de Telecomunicaciones a los Órganos de la Defensa; Effective November 15, 2018

SIMPRO—Centro de Investigación y Desarrollo de Simuladores

TECAL—Empresa de Tecnologías Alternativas

TECNOPRO—Empresa Militar Industrial “G.B. Francisco Cruz Bourzac”

TECNOTEX—Empresa Cubana Exportadora e Importadora de Servicios, Artículos y Productos Técnicos Especializados

TGF—Tropas de Guardafronteras

UAM—Unión Agropecuaria Militar

ULAEX—Unión Latinoamericana de Explosivos

XETID—Empresa de Tecnologías de la Información Para La Defensa

YABO—Empresa Militar Industrial Coronel Francisco Aguiar Rodríguez

Additional Subentities of CIMEX

ADESA/ASAT—Agencia Servicios Aduanales (Customs Services)

Cachito (Beverage Manufacturer)

Contex (Fashion)

Datacimex

ECUSE—Empresa Cubana de Servicios

Inmobiliaria CIMEX (Real Estate)

Inversiones CIMEX

Jupiña (Beverage Manufacturer)

La Maisón (Fashion)

Najita (Beverage Manufacturer)

Publicitaria Imagen (Advertising)

Residencial Tarara S.A. (Real Estate/Property Rental) Effective November 15, 2018

Ron Caney (Rum Production)

Ron Varadero (Rum Production)

Telecable (Satellite Television)

Tropicola (Beverage Manufacturer)

Zona Especializada de Logística y Comercio (ZELCOM)

Additional Subentities of GAESA

Almacenes Universales (AUSA)

ANTEX—Corporación Antillana Exportadora

Compañía Inmobiliaria Aurea S.A. (GAESA) Effective November 15, 2018

Dirección Integrada Proyecto Mariel (DIP)

Empresa Inmobiliaria Almest (Real Estate)

GRAFOS (Advertising)

RAFIN S.A. (Financial Services)

Sociedad Mercantin Inmobiliaria Caribe (Real Estate)

TECNOIMPORT

Terminal de Contenedores de la Habana (TCH)

Terminal de Contenedores de Mariel, S.A.

UCM—Unión de Construcciones Militares

Zona Especial de Desarrollo Mariel (ZEDM)

Zona Especial de Desarrollo y Actividades Logísticas (ZEDAL)

Additional Subentities of Gaviota

AT Comercial

Manzana de Gomez (Shopping Mall)

PhotoService

Plaza La Estrella Effective November 15, 2018

Plaza Las Dunas Effective November 15, 2018

Plaza Las Morlas Effective November 15, 2018

Plaza Las Salinas Effective November 15, 2018

Plaza Las Terrazas del Atardecer Effective November 15, 2018

Plaza Los Flamencos Effective November 15, 2018

Plaza Pesquero Effective November 15, 2018

Producciones TRIMAGEN S.A. (Tiendas Trimagen)

Additional Subentities of Habaguanex

Sociedad Mercantil Cubana Inmobiliaria Fenix S.A. (Real Estate)

Peter D. Haas,
Senior Bureau Official, Bureau of Economic and Business Affairs, Department of State.

[FR Doc. 2018-24904 Filed 11-14-18; 8:45 am]

BILLING CODE 4710-AE-P